DEPARTMENT OF COMMERCE

National Oceanic and Atmospheric Administration

RIN 0648-XF277

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a 5-day meeting in San Juan, Puerto Rico.

DATES: The meetings will be held on April 3-7, 2017. The meeting will begin at 1 p.m. on Monday, April 3, 2017. On Tuesday, April 4 through Friday, April 7, 2017, the meetings will begin at 9 a.m. and adjourn at 5 p.m.

ADDRESSES: The meetings will be held at the Council's Office, 270 Muñoz Rivera Avenue, Suite 401, San Juan, Puerto Rico.

FOR FURTHER INFORMATION CONTACT: Caribbean Fishery Management Council, 270 Muñoz Rivera Avenue, Suite 401, San Juan, Puerto Rico 00918-1903, telephone: (787) 766-5926.

SUPPLEMENTARY INFORMATION: The Council's SSC will hold a 5-day meeting to discuss the items contained in the following agenda:

—Call to Order

—Adoption of Agenda

—Report from the DAPs Meetings (March 7-8, 2017)

—Action 3: Management Reference Points for Stocks/Stock for each Puerto Rico, St. Thomas/St. John and St. Croix Fishery Management Plan (FMP): Process for setting Reference Points, MSY proxies, OFL, ABC for species/species complexes/groupings

How indicator species will be employed?

Time Series: Select a time series of landings data to establish management reference points for a stock/stock complex, as applicable.

Determination of likely stock/complex status

Define process for determination of scalars used in ABC Control Rule

Define process for determination of buffers used in ABC Control Rule

Determine References Points (e.g., OFL, ABC) for species/species groupings for each Island

—Use of multi-year sequences for comparison to OFL (NS1)

—Other Business

—Next Meeting

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903; telephone (787) 766-5926, at least 5 days prior to the meeting date.

Dated: March 9, 2017.
Tracey L. Thompson,
Acting Deputy Director, Office of Sustainable Fisheries, National Marine Fisheries Service.

[FR Doc. 2017-04965 Filed 3-13-17; 8:45 am]

BILLING CODE 3510-22-P